DEPARTMENT OF COMMERCE

International Trade Administration

[A-552-801]

Notice of Antidumping Duty Order: Certain Frozen Fish Fillets from the Socialist Republic of Vietnam

AGENCY: Import Administration, International Trade Administration, Department of Commerce.

ACTION: Notice of Antidumping Duty Order.

EFFECTIVE DATE: August 12, 2003

FOR FURTHER INFORMATION CONTACT: Joe Welton, Alex Villanueva, Import Administration, International Trade Administration, U.S. Department of Commerce, 14th Street and Constitution Avenue NW, Washington, DC 20230; telephone: (202) 482-0165, 482-3208, respectively.

SUPPLEMENTARY INFORMATION:

Scope Of Investigation

For purposes of this investigation, the product covered is frozen fish fillets, including regular, shank, and strip fillets and portions thereof, whether or not breaded or marinated, of the species Pangasius Bocourti, Pangasius Hypophthalmus (also known as Pangasius Pangasius), and Pangasius Micronemus. Frozen fish fillets are lengthwise cuts of whole fish. The fillet products covered by the scope include boneless fillets with the belly flap intact (“regular” fillets), boneless fillets with the belly flap removed (“shank” fillets), boneless shank fillets cut into strips (“fillet strips/finger”), which include fillets cut into strips, chunks, blocks, skewers, or any other shape. Specifically excluded from the scope are frozen whole fish (whether or not dressed), frozen steaks, and frozen belly-flap nuggets. Frozen whole dressed fish are deheaded, skinned, and eviscerated. Steaks are bone-in, cross-section cuts of dressed fish. Nuggets are the belly-flaps.

The subject merchandise will be hereinafter referred to as frozen “basa” and “tra” fillets, which are the Vietnamese common names for these species of fish. These products are classifiable under tariff article codes 0304.20.60.30 (Frozen Catfish Fillets), 0304.20.60.96 (Frozen Fish Fillets, NESOI), 0304.20.60.43 (Frozen Freshwater Fish Fillets) and 0304.20.60.57 (Frozen Sole Fillets) of the Harmonized Tariff Schedule of the United States (“HTSUS”). This investigation covers all frozen fish fillets meeting the above specification, regardless of tariff classification. Although the HTSUS subheadings are provided for convenience and customs purposes, our written description of the scope of this proceeding is dispositive.

Background

In accordance with section 735(a) of the Tariff Act, the Department made its final determination that certain frozen fish fillets from the Socialist Republic of Vietnam (“Vietnam”) are being sold at less than fair value. See Notice of Final Antidumping Duty Determination of Sales at Less Than Fair Value and Affirmative Critical Circumstances: Certain Frozen Fish Fillets from the Socialist Republic of Vietnam(“Final Determination”) 68 FR 37116 (June 23, 2003). We received ministerial error allegations from respondents and petitioners and upon consideration of these allegations, we amended the Final Determination. See Notice of Amended Final Antidumping Duty Determination of Sales at Less Than Fair Value: Certain Frozen Fish Fillets from the Socialist Republic of Vietnam (“Amended Final Determination”) 68 FR 43713 (July 24, 2003).

Antidumping Duty Order

On August 6, 2003, the International Trade Commission (“the Commission”) notified the Department of its final determination pursuant to section 735(b)(1)(A)(e) of the Tariff Act that an industry in the United States is materially injured by reason of less-than-fair-value imports of subject merchandise from Vietnam. In addition, the ITC notified the Department of its final determination that critical circumstances do not exist with respect to imports of subject merchandise from Vietnam that are subject to the Department's affirmative critical circumstances finding. Therefore, in accordance with section 736(a)(1) of the Act, the Department will direct U.S. Bureau of Customs and Border Protection (“Customs”) to assess, upon further advice by the Department, antidumping duties equal to the amount by which the normal value of the merchandise exceeds the export price of the merchandise for all relevant entries of certain frozen fish fillets from Vietnam. These antidumping duties will be assessed on all unliquidated entries of certain frozen fish fillets from Vietnam entered, or withdrawn from the warehouse, for consumption on or after January 31, 2003, the date on which the Department published the Notice of Preliminary Determination of Sales at Less Than Fair Value, Affirmative Preliminary Determination of Critical Circumstances and Postponement of Final Determination: Certain Frozen Fish Fillets From the Socialist Republic of Vietnam (“Preliminary Determination”), 68 FR 4986.

With regard to the ITC negative critical circumstances determination, we will instruct Customs to lift suspension and to release any bond or other security, and refund any cash deposit made, to secure the payment of antidumping duties with respect to entries of the merchandise entered, or withdrawn from warehouse, for consumption on or after November 2, 2002, but before January 31, 2003. November 2, 2002 is 90 days prior to January 31, 2003, the date of publication of the Department's preliminary determination in the Federal Register.

Customs must require, at the same time as importers would normally deposit estimated duties on this merchandise, a cash deposit equal to the estimated weighted-average antidumping duty margins as noted below. The “Vietnam-Wide” rates apply to all exporters of subject merchandise not specifically listed. The weighted-average dumping margins are as follows:

Certain Frozen Fish Fillets from Vietnam: Producer/Manufacturer/Exporter | Certain Frozen Fish Fillets from Vietnam: Weighted-Average Margin
Agifish | 47.05
Vinh Hoan | 36.84
Nam Viet | 53.68
CATACO | 45.81
Afiex | 45.55
CAFATEX | 45.55
Da Nang | 45.55
Mekonimex | 45.55
QVD | 45.55
Viet Hai | 45.55
Vinh Long | 45.55
Vietnam-Wide | 63.88

This notice constitutes the antidumping duty order with respect to certain frozen fish fillets from Vietnam. Interested parties may contact the Department's Central Records Unit, Room B-099 of the main Commerce building, for copies of an updated list of antidumping duty orders currently in effect.

This order is published in accordance with section 736(a) of the Act and 19 C.F.R. 351.211.

Dated: July 31, 2003.
Joseph A. Spetrini,
Acting Assistant Secretary for Grant Aldonas, Under Secretary.

[FR Doc. 03-20509 Filed 8-11-03; 8:45 am]

BILLING CODE 3510-DS-S